NUCLEAR REGULATORY COMMISSION

[Docket No. 50-460-OL; ASLBP No. 82-479-06-OL]

Atomic Safety and Licensing Board; Washington Public Power Supply System (Nuclear Project No. 1), Memorandum and Order; (Order to Show Cause)

March 30, 2000. Before Administrative Judges: G. Paul Bollwerk, III, Chairman, Dr. David R. Schink.

The Atomic Safety and Licensing Board hereby directs the parties to this proceeding to show cause as to why this litigation should not be dismissed for want of prosecution.

The locus of this case is a challenge by intervenor Coalition for Safe Power (CSP) to the operating license application of Washington Public Power Supply System (WPPSS) (now doing business as Energy Northwest) for its Nuclear Project No. 1. CSP, along with the State of Washington (State) as a 10 C.F.R. § 2.715(c) interested governmental entity, were admitted as parties to this proceeding in 1983. See Washington Public Power Supply System (WPPSS Nuclear Project No. 1), LBP-83-66, 18 NRC 780, 780-81 (1983). Since then, however, this proceeding has been in hiatus as a result of WPPSS declarations that it first wished to suspend facility construction and consideration of its operating license request and, thereafter, that it was canceling the project, albeit without withdrawing its operating license application.

After a number of years of filing quarterly reports indicating there had been no change in the status of its application, on January 4, 2000, WPPSS submitted a request to withdraw its operating license application and terminate this adjudicatory proceeding. The Board twice sought, and did not receive, CSP and State comments on the WPPSS withdrawal motion. Before the Board could act on the WPPSS request, however, the applicant filed a February 29, 2000 pleading asking that the Board defer action on its application withdrawal motion. In a March 7, 2000 order providing a schedule for party comments on this WPPSS deferral request, noting the lack of CSP and State responses to its other issuances, the Board asked that on or before March 22, 2000, those participants each provide the Board with some indication it wished to continue to participate in this operating license adjudication.

The allotted time having passed without a response from CSP or the State, it appears to the Board that neither has an interest in further pursuing this litigation. As a consequence, the Board hereby gives notice that, absent some response from these parties within thirty days of the date of publication of this issuance in the Federal Register that demonstrates a continued interest in this cause, the Board will terminate the proceeding. ¹ Applicant WPPSS and the NRC staff likewise are permitted to file a response to this issuance within that time frame if either wishes to do so.

¹ As it has done in its January 11, February 16, and March 7, 2000 issuances, the Board requests that each participant who has the capability to do so send a copy of its response by facsimile transmission or internet e-mail to the two Board members, the Office of the Secretary, counsel for WPPSS, and counsel for the any other party who has provided a facsimile number and/or e-mail address.

It is so Ordered.

For the Atomic Safety and Licensing Board ²
² In addition to service by regular mail to all parties on the service list, copies of this memorandum and order were sent this date by Internet e-mail transmission to counsel for applicant WPPSS, a State representative previously identified by WPPSS, and the staff.
This memorandum and order is issued pursuant to the authority of the Chairman of the Atomic Safety and Licensing Board designated for this proceeding.
Rockville, Maryland.
Dated: March 30, 2000.
G. Paul Bollwerk, III,
Administrative Judge.

[FR Doc. 00-8338 Filed 4-4-00; 8:45 am]

BILLING CODE 7590-01-P